DEPARTMENT OF HEALTH AND HUMAN SERVICES

Office of the Secretary

Findings of Research Misconduct

AGENCY: Office of the Secretary, HHS.

ACTION: Notice.

SUMMARY: Notice is hereby given that the Office of Research Integrity (ORI) has taken final action in the following case:

David Anderson, University of Oregon, Eugene: Based on an assessment conducted by the University of Oregon, Eugene (UOE), the Respondent's admission, and analysis conducted by ORI, ORI and UOE found that Mr. David Anderson, Graduate Student, UOE, engaged in research misconduct in research supported by National Institute of Mental Health (NIMH), National Institutes of Health (NIH), grants R01 MH087214, R01 MH077105, and TA MH020002.

ORI found that Respondent engaged in research misconduct by falsifying and/or fabricating data in the following four (4) publications:

• Journal of Neuroscience 31(3):1128-38, 2011 (hereafter referred to as “Paper 1”).

Journal of Experimental Psychology: Human Perception and Performance 39(3):824-835, 2012 (hereafter referred to as “Paper 2”).

• Attention, Perception and Psychophysics 74(5):891-910, 2012 (hereafter referred to as “Paper 3”).

• Psychological Science 24(6):929-38, 2013 (hereafter referred to as “Paper 4”).

ORI found that Respondent knowingly falsified data by removing outlier values or replacing outliers with mean values to produce results that conform to predictions. Specifically, these falsifications appear in:

1. Figures 4 and 8 in Paper 1.

2. Figures 3C, 3D, and 3E in Paper 2.

3. Figures 3B, 7C, 7D, and 8B in Paper 3.

4. Figures 3E and 3F in Paper 4.

Mr. Anderson has entered into a Voluntary Settlement Agreement and has voluntarily agreed for a period of three (3) years, beginning on June 23, 2015:

(1) To have his research supervised; Respondent agreed that prior to the submission of an application for U.S. Public Health Service (PHS) support for a research project on which his participation is proposed and prior to his participation in any capacity on PHS-supported research, Respondent shall ensure that a plan for supervision of his duties is submitted to ORI for approval; the supervision plan must be designed to ensure the scientific integrity of his research contribution; Respondent agreed that he shall not participate in any PHS-supported research until such a supervision plan is submitted to and approved by ORI; Respondent agreed to maintain responsibility for compliance with the agreed upon supervision plan;

(2) that any institution employing him shall submit in conjunction with each application for PHS funds, or report, manuscript, or abstract involving PHS-supported research in which Respondent is involved, a certification to ORI that the data provided by Respondent are based on actual experiments or are otherwise legitimately derived, and that the data, procedures, and methodology are accurately reported in the application, report, manuscript, or abstract;

(3) to exclude himself voluntarily from serving in any advisory capacity to PHS including, but not limited to, service on any PHS advisory committee, board, and/or peer review committee, or as a consultant; and

(4) to assist UOE in advising publishers of the need to retract or correct the following papers:

• Journal of Neuroscience 31(3):1128-38, 2011.

• Journal of Experimental Psychology: Human Perception and Performance 39(3):824-835, 2012.

• Attention, Perception and Psychophysics 74(5):891-910, 2012.

• Psychological Science 24(6):929-38, 2013.

FOR FURTHER INFORMATION CONTACT: Acting Director, Office of Research Integrity, 1101 Wootton Parkway, Suite 750, Rockville, MD 20852, (240) 453-8200.

Donald Wright,
Acting Director, Office of Research Integrity.

[FR Doc. 2015-18794 Filed 7-30-15; 8:45 am]

BILLING CODE 4150-31-P